ENVIRONMENTAL PROTECTION AGENCY

40 CFR Part 704

[EPA-HQ-OPPT-2010-0572; FRL-9929-70]

Chemical Substances When Manufactured or Processed as Nanoscale Materials, TSCA Reporting and Recordkeeping Requirements; Extension of Comment Period

AGENCY: Environmental Protection Agency (EPA).

ACTION: Proposed rule; extension of comment period.

SUMMARY: EPA published a proposed rule in the Federal Register of April 6, 2015 at 80 FR 18330, concerning proposing reporting and recordkeeping requirements for certain chemical substances when they are manufactured or processed at the nanoscale. This document extends the comment period for 30 days, from July 6, 2015 to August 5, 2015. A commenter requested additional time to submit written comments for the proposed rule. EPA is therefore extending the comment period in order to give all interested persons the opportunity to comment fully.

DATES: Comments, identified by docket identification (ID) number EPA-HQ-OPPT-2010-0572, must be received on or before August 5, 2015.

ADDRESSES: Follow the detailed instructions provided under ADDRESSES in the Federal Register document of April 6, 2015 (80 FR 18330) (FRL-9920-90).

FOR FURTHER INFORMATION CONTACT: For technical information contact: Jim Alwood, Chemical Control Division, Office of Pollution Prevention and Toxics, Environmental Protection Agency, 1200 Pennsylvania Ave. NW., Washington, DC 20460-0001; telephone number: 202 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of April 6, 2015 (80 FR 18330) (FRL-9920-90). In that document, EPA proposed reporting and recordkeeping requirements for certain chemical substances when they are manufactured or processed at the nanoscale. EPA is hereby extending the comment period, which was set to end on July 6, 2015, to August 5, 2015.

To submit comments, or access the docket, please follow the detailed instructions provided under ADDRESSES in the Federal Register document of April 6, 2015. If you have questions, consult the technical person listed under FOR FURTHER INFORMATION CONTACT.

Authority: 15 U.S.C. 2607(a).

List of Subjects in 40 CFR Part 704

Environmental protection, Chemicals, Hazardous substances, Reporting and recordkeeping requirements.

Dated: June 23, 2015.
Maria J. Doa,
Director, Chemical Control Division, Office of Pollution Prevention and Toxics.

[FR Doc. 2015-16051 Filed 7-1-15; 8:45 am]

BILLING CODE 6560-50-P